DEPARTMENT OF ENERGY

Federal Energy Regulatory Commission

Combined Notice of Filings #1

February 23, 2010.

Take notice that the Commission received the following electric corporate filings:

Docket Numbers: EC10-48-000.

Applicants: Ridgeline Alternative Energy LLC.

Description: Application for Authorization Under Section 203 of the Federal Power Act of Ridgeline Alternative Energy LLC.

Filed Date: 02/23/2010.

Accession Number: 20100223-5082.

Comment Date: 5 p.m. Eastern Time on Tuesday, March 16, 2010.

Take notice that the Commission received the following exempt wholesale generator filings:

Docket Numbers: EG10-12-000.

Applicants: Green Country Operating Services, LLC.

Description: Supplemental Information of Green Country Operating Services, LLC.

Filed Date: 02/04/2010.

Accession Number: 20100204-5099.

Comment Date: 5 p.m. Eastern Time on Thursday, February 25, 2010.

Take notice that the Commission received the following electric rate filings:

Docket Numbers: ER98-511-013; ER97-4345-025.

Applicants: Oklahoma Gas and Electric Company, OGE Energy Resources, Inc.

Description: Supplemental Market Power Analysis of Oklahoma Gas and Electric Company & OGE Energy Resources, Inc.

Filed Date: 02/19/2010.

Accession Number: 20100219-5067.

Comment Date: 5 p.m. Eastern Time on Friday, March 12, 2010.

Docket Numbers: ER98-2157-018; ER03-9-017; ER06-1313-005.

Applicants: Kansas Gas and Electric Company, Westar Energy, Inc.

Description: Westar Energy, Inc submits an amended triennial market power analysis.

Filed Date: 02/19/2010.

Accession Number: 20100222-0011.

Comment Date: 5 p.m. Eastern Time on Friday, March 12, 2010.

Docket Numbers: ER99-1610-036.

Applicants: Southwestern Public Service Company.

Description: Southwestern Public Service Company submits supplement to the Triennial Market Power Analysis filed on 7/31/09.

Filed Date: 02/17/2010.

Accession Number: 20100218-0053.

Comment Date: 5 p.m. Eastern Time on Wednesday, March 10, 2010.

Docket Numbers: ER00-1372-006; ER07-496-003.

Applicants: Alcoa Power Generating Inc.; Alcoa Power Marketing LLC.

Description: Notice of Non-Material Change in Status of Alcoa Power Generating, Inc. and Alcoa Power Marketing, LLC.

Filed Date: 02/17/2010.

Accession Number: 20100217-5098.

Comment Date: 5 p.m. Eastern Time on Wednesday, March 10, 2010.

Docket Numbers: ER02-537-027; ER06-739-024; ER06-738-024; ER03-983-024; ER07-501-023; ER08-649-016; ER07-758-020.

Applicants: Cogen Technologies Linden Venture, L.P., Fox Energy Company LLC, Birchwood Power Partners, L.P., Shady Hills Power Company, L.L.C., East Coast Power Liden Holding, LLC, EFS Parlin Holdings, LLC, Inland Empire Energy Center, LLC.

Description: Supplement to Notice of Non-Material Changes in Status for East Coast Power Linden Holdings, LLC.

Filed Date: 02/17/2010.

Accession Number: 20100217-5039.

Comment Date: 5 p.m. Eastern Time on Wednesday, March 10, 2010.

Docket Numbers: ER03-198-013.

Applicants: Pacific Gas and Electric Company.

Description: Pacific Gas and Electric Company's Amended Quarterly Report of Site Control for New Generation Capacity.

Filed Date: 02/18/2010.

Accession Number: 20100218-5081.

Comment Date: 5 p.m. Eastern Time on Thursday, March 11, 2010.

Docket Numbers: ER04-714-021; ER04-157-032; EL05-89-010.

Applicants: Florida Power & Light Co New England; Bangor Hydro-Electric Company.

Description: Refund Report of Central Maine Power Company.

Filed Date: 02/22/2010.

Accession Number: 20100222-5013.

Comment Date: 5 p.m. Eastern Time on Monday, March 15, 2010.

Docket Numbers: ER08-313-006; ER08-923-005; ER08-1307-004; ER08-1308-006; ER08-1357-004; ER08-1358-004; ER08-1359-004.

Applicants: Xcel Energy Services Inc.; Southwest Power Pool Inc.

Description: Compliance Refund Report of Xcel Energy Services Inc.

Filed Date: 02/18/2010.

Accession Number: 20100218-5083.

Comment Date: 5 p.m. Eastern Time on Thursday, March 11, 2010.

Docket Numbers: ER08-1569-003.

Applicants: PJM Interconnection, L.L.C.

Description: PJM Interconnection, LLC submits revised sheets as Attachment A and Attachment B and request that the Commission issue to its order by no later 4/20/10 etc.

Filed Date: 02/19/2010.

Accession Number: 20100219-0219.

Comment Date: 5 p.m. Eastern Time on Friday, March 12, 2010.

Docket Numbers: ER09-335-005; ER07-1117-010; ER05-1232-019.

Applicants: J.P. Morgan Ventures Energy Corporation; BE KJ LLC.

Description: Supplement to Updated Market Power Analysis and Order Nos. 697 and 697-A Compliance Filing of J.P. Morgan Ventures Energy Corporation and BE KJ LLC.

Filed Date: 02/17/2010.

Accession Number: 20100217-5038.

Comment Date: 5 p.m. Eastern Time on Wednesday, March 10, 2010.

Docket Numbers: ER09-1048-002; ER06-615-059.

Applicants: California Independent System Operator Corporation.

Description: California Independent System Operator Corporation submits amendments to the ISO's FERC Electric Tariff.

Filed Date: 02/18/2010.

Accession Number: 20100219-0204.

Comment Date: 5 p.m. Eastern Time on Thursday, March 11, 2010.

Docket Numbers: ER09-1050-003; ER09-1192-003.

Applicants: Southwest Power Pool, Inc.

Description: Southwest Power Pool. Inc submits revisions to its Open Access Transmission Tariff and Bylaws.

Filed Date: 02/18/2010.

Accession Number: 20100219-0205.

Comment Date: 5 p.m. Eastern Time on Thursday, March 11, 2010.

Docket Numbers: ER09-1142-005.

Applicants: New York Independent System Operator, Inc.

Description: New York Independent System Operator, Inc submits compliance revisions to the NYISO's Market Administration and Control Area Services Tariff.

Filed Date: 02/18/2010.

Accession Number: 20100219-0203.

Comment Date: 5 p.m. Eastern Time on Thursday, March 11, 2010.

Docket Numbers: ER09-1723-007.

Applicants: Dry Lake Wind Power, LLC.

Description: Refund Report of Dry Lake Wind Power, LLC.

Filed Date: 02/22/2010.

Accession Number: 20100222-5142.

Comment Date: 5 p.m. Eastern Time on Monday, March 15, 2010.

Docket Numbers: ER10-382-001.

Applicants: Florida Power Corporation.

Description: Florida Power Corporation submits an amendment to the 12/2/09 filing of an agreement with Seminole Electric Coop. Inc, which was designated Rate Schedule 211 etc.

Filed Date: 02/17/2010.

Accession Number: 20100217-0237.

Comment Date: 5 p.m. Eastern Time on Wednesday, March 10, 2010.

Docket Numbers: ER10-400-001.

Applicants: Mid-American Energy Company.

Description: MidAmerican Energy Co submits a compliance filing.

Filed Date: 02/18/2010.

Accession Number: 20100218-0210.

Comment Date: 5 p.m. Eastern Time on Thursday, March 11, 2010.

Docket Numbers: ER10-559-001.

Applicants: Midwest Independent Transmission System Operator, Inc.

Description: Midwest Independent Transmission System Operator, Inc submits corrected Amended and Restated Interconnection and Operating Agreement with Crownbutte Wind Power, Inc etc.

Filed Date: 02/19/2010.

Accession Number: 20100222-0200.

Comment Date: 5 p.m. Eastern Time on Friday, March 12, 2010.

Docket Numbers: ER10-646-001.

Applicants: Arizona Public Service Company.

Description: Arizona Public Service Company submits FERC Rate Schedule No 252 Errata filing.

Filed Date: 02/22/2010.

Accession Number: 20100223-0203.

Comment Date: 5 p.m. Eastern Time on Monday, March 15, 2010.

Docket Numbers: ER10-664-001.

Applicants: Southwest Power Pool, Inc.

Description: Southwest Power Pool, Inc submits the amendment to filing making the necessary revisions to section 34.1.

Filed Date: 02/19/2010.

Accession Number: 20100222-0201.

Comment Date: 5 p.m. Eastern Time on Friday, March 12, 2010.

Docket Numbers: ER10-707-001.

Applicants: Florida Power Corporation.

Description: Florida Power Corporation submits an amendment to the Florida. Municipal Power Agency Interchange Service Agreement.

Filed Date: 02/19/2010.

Accession Number: 20100219-0217.

Comment Date: 5 p.m. Eastern Time on Friday, March 12, 2010.

Docket Numbers: ER10-718-001.

Applicants: February Futures, LLC.

Description: February Futures, LLC submits errata to application for market based rate authorization.

Filed Date: 02/17/2010.

Accession Number: 20100218-0203.

Comment Date: 5 p.m. Eastern Time on Wednesday, March 10, 2010.

Docket Numbers: ER10-725-000.

Applicants: Glacial Energy of New England, Inc.

Description: Glacial Energy of New England submits informational filing.

Filed Date: 02/03/2010.

Accession Number: 20100205-0030.

Comment Date: 5 p.m. Eastern Time on Tuesday, March 02, 2010.

Docket Numbers: ER10-772-000.

Applicants: Entergy Services, Inc.

Description: Entergy Services, Inc submits Service Agreement No 563 to FERC Electric Tariff, Third Revised Volume No 3.

Filed Date: 02/18/2010.

Accession Number: 20100219-0200.

Comment Date: 5 p.m. Eastern Time on Thursday, March 11, 2010.

Docket Numbers: ER10-773-000.

Applicants: Southwest Power Pool, Inc.

Description: Southwest Power Pool, Inc submits revised page to its Open Access Transmission Tariff.

Filed Date: 02/18/2010.

Accession Number: 20100219-0201.

Comment Date: 5 p.m. Eastern Time on Thursday, March 11, 2010.

Docket Numbers: ER10-774-000.

Applicants: California Independent System Operator Corporation.

Description: California Independent System Operator Corporation's 2009 Participating Load Pilot Project Report in Compliance with Order No. 719.

Filed Date: 02/18/2010.

Accession Number: 20100218-5079.

Comment Date: 5 p.m. Eastern Time on Thursday, March 11, 2010.

Docket Numbers: ER10-776-000.

Applicants: Central Vermont Public Service Corporation.

Description: Central Vermont Public Service Corporation submits revised cover sheet to cancel its cost based rate power sales tariff, FERC Electric Tariff, Original Volume 5 to be effective 4/22/10.

Filed Date: 02/19/2010.

Accession Number: 20100219-0216.

Comment Date: 5 p.m. Eastern Time on Friday, March 12, 2010.

Docket Numbers: ER10-777-000.

Applicants: Westar Energy, Inc.

Description: Westar Energy, Inc submits Rate Schedule FERC No 333.

Filed Date: 02/19/2010.

Accession Number: 20100219-0214.

Comment Date: 5 p.m. Eastern Time on Friday, March 12, 2010.

Docket Numbers: ER10-778-000.

Applicants: Cleco Power LLC.

Description: Cleco Power LLC submits Amended and Restated Interconnection and Operating Agreement between Cleco Power and Acadia Power Partners LLC designated as Cleco Power First Revised Schedule 21.

Filed Date: 02/19/2010.

Accession Number: 20100219-0215.

Comment Date: 5 p.m. Eastern Time on Friday, March 12, 2010.

Docket Numbers: ER10-779-000.

Applicants: Ohio Power Company.

Description: Ohio Power Company submits First Revised Sheet 32 et al to its First Revised Rate Schedule FERC No 18 et al.

Filed Date: 02/19/2010.

Accession Number: 20100222-0202.

Comment Date: 5 p.m. Eastern Time on Friday, March 12, 2010.

Docket Numbers: ER10-780-000.

Applicants: PJM Interconnection, L.L.C.

Description: PJM Interconnection, LLC submits an executed interconnection service agreement with US General Service Agreement White Oak Federal Research Center et al.

Filed Date: 02/19/2010.

Accession Number: 20100222-0203.

Comment Date: 5 p.m. Eastern Time on Friday, March 12, 2010.

Docket Numbers: ER10-781-000.

Applicants: Westar Energy, Inc.

Description: Westar Energy submits Notice of Cancellation to First Revised Rate Schedule FERC No 253, the Electric Power Supply Agreement with City of Elwood, Kansas.

Filed Date: 02/22/2010.

Accession Number: 20100222-0219.

Comment Date: 5 p.m. Eastern Time on Monday, March 15, 2010.

Docket Numbers: ER10-782-000.

Applicants: Westar Energy, Inc.

Description: Westar Energy submits for filing a Notice of Cancellation to Second Revised Rate Schedule FERC No 259, the Electric Power Supply Agreement with City of Toronto. Kansas.

Filed Date: 02/22/2010.

Accession Number: 20100222-0220.

Comment Date: 5 p.m. Eastern Time on Monday, March 15, 2010.

Docket Numbers: ER10-783-000.

Applicants: Carolina Power & Light Company.

Description: Carolina Power & Light Company submits the Standard Large Generator Interconnection Agreement 315 with FibroMont, LLC to be effective 3/1/10.

Filed Date: 02/22/2010.

Accession Number: 20100222-0221.

Comment Date: 5 p.m. Eastern Time on Monday, March 15, 2010.

Docket Numbers: ER10-784-000.

Applicants: Southern California Edison Company.

Description: Southern California Edison Company submits revised rate sheets to the Interconnection Facilities Agreement and the Service Agreement for Wholesale Distribution Service Agreement with City of Rancho Cucamonga etc.

Filed Date: 02/22/2010.

Accession Number: 20100222-0223.

Comment Date: 5 p.m. Eastern Time on Monday, March 15, 2010.

Docket Numbers: ER10-785-000.

Applicants: Xcel Energy Operating Companies.

Description: Xcel Energy submits Ninth Revised Sheet 48-56 et al. to its FERC Electric Tariff, Original Volume 3 Rate Schedule 2—Revised Tariff Pages.

Filed Date: 02/22/2010.

Accession Number: 20100222-0222.

Comment Date: 5 p.m. Eastern Time on Monday, March 15, 2010.

Docket Numbers: ER10-786-000.

Applicants: Ameren Energy Marketing Company.

Description: Ameren Energy Marketing Company submits amended tariff sheets to its Market Based Rate Tariff.

Filed Date: 02/22/2010.

Accession Number: 20100223-0202.

Comment Date: 5 p.m. Eastern Time on Monday, March 15, 2010.

Docket Numbers: ER10-787-000.

Applicants: ISO New England Inc.

Description: ISO New England Inc. et al. submit revisions to the Forward Capacity Market rules with an effective date of 4/23/2010.

Filed Date: 02/22/2010.

Accession Number: 20100223-0201.

Comment Date: 5 p.m. Eastern Time on Monday, March 15, 2010.

Docket Numbers: ER10-788-000.

Applicants: PJM Interconnection, LLC.

Description: PJM Interconnection, LLC submits an executed Wholesale Market Participation Agreement.

Filed Date: 02/23/2010.

Accession Number: 20100223-0209.

Comment Date: 5 p.m. Eastern Time on Tuesday, March 16, 2010.

Docket Numbers: ER10-789-000.

Applicants: Carolina Power & Light Company.

Description: Carolina Power & Light Company et al. submits an agreement entitled “Managing Non-Firm Parallel Flow Agreement” etc. to be effective 4/30/10 under ER10-789.

Filed Date: 02/23/2010.

Accession Number: 20100223-0210.

Comment Date: 5 p.m. Eastern Time on Tuesday, March 16, 2010.

Docket Numbers: ER10-791-000.

Applicants: Innovative Energy Systems, LLC.

Description: Application for Waiver of Innovative Energy Systems, LLC.

Filed Date: 02/22/2010.

Accession Number: 20100222-5148.

Comment Date: 5 p.m. Eastern Time on Monday, March 15, 2010.

Take notice that the Commission received the following electric reliability filings:

Docket Numbers: RR10-6-000.

Applicants: North American Electric Reliability Corp.

Description: Petition of North American Electric Reliability Corporation for Approval of Delegation Agreement with Texas Reliability Entity, Inc. and 2010 Business Plan and Budget of Texas Reliability Entity, Inc.

Filed Date: 02/19/2010.

Accession Number: 20100219-5139.

Comment Date: 5 p.m. Eastern Time on Friday, March 12, 2010.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-4429 Filed 3-3-10; 8:45 am]

BILLING CODE 6717-01-P